NUCLEAR REGULATORY COMMISSION

[Docket No. 50-289]

AmerGen Energy Company, LLC; Notice of Partial Withdrawal of Application for Amendment to Facility Operating License

The U.S. Nuclear Regulatory Commission (the Commission) has granted the request of AmerGen Energy Company, LLC (the licensee), to withdraw a portion of its June 4, 1999, application for proposed amendment to Facility Operating License No. DPR-50 for the Three Mile Island Nuclear Station, Unit 1, located in Dauphin County, Pennsylvania.

The portion of the proposed amendment being withdrawn would have revised the Technical Specification (TS) Bases on page 3-26c of the TSs to clarify that the decay heat generation “was” rather than “is” calculated in accordance with ANSI 5.1-1979. Also deleted was the phrase “to determine when this situation exists.”

The Commission had previously issued a Notice of Consideration of Issuance of Amendment published in the Federal Register on June 30, 1999 (64 FR 35207). However, by letter dated December 13, 1999, the licensee withdrew the above described portion of the proposed change.

For further details with respect to this action, see the application for amendment dated June 4, 1999, and the licensee's letter dated December 13, 1999, which withdrew a portion of the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 28th day of February 2000.
For the Nuclear Regulatory Commission.
Timothy G. Colburn,
Senior Project Manager, Section 1, Project Directorate I, Division of Licensing Project Management, Office of Nuclear Reactor Regulation.

[FR Doc. 00-5156 Filed 3-2-00; 8:45 am]

BILLING CODE 7590-01-P